Proclamation 10832 of October 4, 2024

German-American Day, 2024

By the President of the United States of America

A Proclamation

In 1683, 13 families left the only home they had ever known to flee religious persecution and start new lives in America, establishing the first German settlement just outside Philadelphia. On German-American Day, we celebrate the history, culture, and countless contributions of our Nation's 40 million German Americans.

The hard work, achievements, and sacrifices of German Americans have shaped the very idea of America. German-American immigrants established some of our Nation's earliest and most extensive newspapers, advancing the role of the free press in America. German-American scholars and writers, scientists and musicians, and leaders in every sector are the source of some of America's best ideas and most exciting possibilities. And today, German Americans are not only a proud part of our country's character, but they also tie us closer to Germany and its people.

My Administration is committed to growing the friendship, allyship, and partnership between Germany and the United States. This month, I will be traveling to Germany to meet with their leaders and coordinate on shared priorities like securing democracy around the world, countering antisemitism and other forms of hatred, and advancing cooperation on economics, trade, and technology. We will also continue to stand together to support the brave people of Ukraine in their defense against Russian aggression.

Today, may we celebrate the culture and bonds German Americans have built over the hundreds of years they have called this country home. Together, may we recommit to fighting for a better future, full of new possibilities for our Nation.

NOW, THEREFORE, I, JOSEPH R. BIDEN JR., President of the United States of America, do hereby proclaim October 6, 2024, as German-American Day. I urge all Americans to celebrate the rich and varied history of German Americans and remember the many contributions they have made to our Nation.

IN WITNESS WHEREOF, I have hereunto set my hand this fourth day of October, in the year of our Lord two thousand twenty-four, and of the Independence of the United States of America the two hundred and forty-ninth.

[FR Doc. 2024-23457

Filed 10-8-24; 8:45 am]

Billing code 3395-F4-P